Title 3—

The President

Proclamation 7979 of February 3, 2006

National Consumer Protection Week, 2006

By the President of the United States of America

A Proclamation

During National Consumer Protection Week, we highlight the importance of consumer education in the ongoing fight against fraud and encourage consumers to make wise decisions.

Each year, nearly 25 million adults are victims of consumer fraud. These crimes damage lives and shake consumer confidence. The Federal Trade Commission (FTC) and other organizations recommend several steps that Americans can take to help protect themselves against fraud. First, consumers should be cautious about giving out personal information such as Social Security and account numbers. Second, they should be aware of the credentials of an organization before making a transaction, especially through the mail, over the phone, or on the Internet. Third, before finalizing a purchase or agreement, the FTC suggests considering offers with care, avoiding immediate decisions, and requesting to have information in writing. In addition, when using the Internet, the FTC recommends that consumers exercise caution in responding to solicitations and that consumers use and regularly update their anti-virus software and firewall.

My Administration is committed to vigorous enforcement of the consumer protection statutes, and the Department of Justice's Office of Consumer Litigation and other Federal agencies are working diligently to that end. The FTC is working to fight unsolicited e-mail under the Controlling the Assault of Non-Solicited Pornography and Marketing Act and is establishing new rules under the Fair and Accurate Credit Transactions Act to further protect against identity theft. We are protecting American consumers through the National Do-Not-Call Registry. Millions of Americans have registered already, and individuals may call 1-888-382-1222 or visit the Do-Not-Call website at www.donotcall.gov to have their number added to the list. Citizens can learn more about ways to fight fraud from the National Consumer Protection Week website at www.consumer.gov/ncpw. By actively guarding against fraud, consumers can protect themselves and enhance the strength and integrity of our Nation's economy.

NOW, THEREFORE, I, GEORGE W. BUSH, President of the United States of America, by virtue of the authority vested in me by the Constitution and laws of the United States, do hereby proclaim February 5 through February 11, 2006, as National Consumer Protection Week. I call upon Government officials, industry leaders, and consumer advocates to provide citizens with information about how they can be responsible consumers, and I encourage all citizens to take an active role in protecting their personal information.

IN WITNESS WHEREOF, I have hereunto set my hand this third day of February, in the year of our Lord two thousand six, and of the Independence of the United States of America the two hundred and thirtieth.

B

[FR Doc. 06-1209

Filed 2-7-06; 8:45 am]

Billing code 3195-01-P